AGENCY FOR INTERNATIONAL DEVELOPMENT

Privacy Act of 1974; System of Records

AGENCY: Agency for International Development (USAID).

ACTION: Notice of modified Privacy Act system of records.

SUMMARY: The United States Agency for International Development (USAID) publishes this notice of a modified system of records entitled the “Congressional Relations and Correspondence Records,” formerly named the “Congressional Relations, Inquiries and Travel Records,” and this rescindment of a system of records notice entitled “Public Information Records.” The modified system of records replaces the system of records entitled “Public Information Records.” USAID proposes the rescission to eliminate the duplicative reporting. The records contained in the Public Information Records will be covered by the modified “Congressional Relations and Correspondence Records” and the USAID SORN entitled, “Freedom of Information Act, Privacy Act, and Mandatory Declassification Review Requests Records.”

DATES: Submit comments on or before 10 June 2022. This modified system of records will be effective 10 June 2022 upon publication. The Routine Uses are effective at the close of the comment period.

ADDRESSES: You may submit comments:

Electronic

• Federal eRulemaking Portal: http://www.regulations.gov. Follow the instructions on the website for submitting comments.

• Email: Privacy@usaid.gov.

Paper

• Fax: 202-916-4946.

• Mail: Chief Privacy Officer, United States Agency for International Development, 1300 Pennsylvania Avenue NW, Washington, DC 20523.

FOR FURTHER INFORMATION CONTACT: Ms. Celida A. Malone, USAID Privacy Program at United States Agency for International Development, Bureau for Management, Office of the Chief Information Officer, Information Assurance Division: ATTN: USAID Privacy Program, 1300 Pennsylvania Avenue NW, Washington, DC 20523, or by phone number at 202-916-4605.

SUPPLEMENTARY INFORMATION: USAID is publishing a notice of a modified system of records to document the records collected and maintained concerning Congressional inquiries. The proposed modification to the system of records makes the following substantive changes to align the notice with the SORN publication standards required by OMB A-108, including:

○ Security Classification

○ System Manager

○ Administrative, technical, and physical safeguards

○ Record Access Procedures

○ Contesting Records Procedures

○ Notification Procedures

○ SORN Publication History

The notice also provides updated information for the System of Records Manager and the Address for the System Location.

SYSTEM NAME AND NUMBER:

USAID-22, Congressional Relations and Correspondence Records.

SECURITY CLASSIFICATION:

Sensitive But Unclassified.

SYSTEM LOCATION:

1300 Pennsylvania Avenue NW, Washington, DC 20523.

SYSTEM MANAGER:

Deputy Executive Secretary, United States Agency for International Development, Ronald Reagan Building, 1300 Pennsylvania Avenue NW, Washington, DC 20523.

Email: ecarr@usaid.gov.

AUTHORITY FOR MAINTENANCE OF THE SYSTEM:

Foreign Assistance Act of 1961 as amended, especially Section 634(b); 5 U.S.C. 301; 44 U.S.C. Chapters 31 and 33.

PURPOSE OF THE SYSTEM:

The information in this system of records is collected and maintained by the Bureau of Legislative Affairs to fulfill its responsibility to the Congress in tracking Members' correspondence and providing appropriate responses.

CATEGORIES OF INDIVIDUALS COVERED BY THE SYSTEM:

Members of Congress and their constituents who request Congressional assistance in obtaining information or services from the United States Agency for International Development.

CATEGORIES OF RECORDS IN THE SYSTEM:

This system contains correspondence. Records may contain the following information:

• Biographical information about the member of Congress and their professional staff members.

• Memoranda.

• Email messages between Members of Congress, Congressional Committees, and USAID pertaining to Congressional and constituents' requests for information or services from the Agency.

• Constituent Information: name, address and other personal information contained in the inquiry received by USAID.

RECORD SOURCE CATEGORIES:

Information contained in this system is obtained from Members of Congress, their staff, and individuals on whose behalf there have been Congressional inquiries; USAID employees; Congressional Directory; Congressional Quarterly; Congressional Record; newspapers, magazines, and other public media.

ROUTINE USES OF RECORDS MAINTAINED IN THE SYSTEM, INCLUDING CATEGORIES OF USERS AND PURPOSES OF SUCH USES:

In addition to those disclosures generally permitted under 5 U.S.C. 552a(b), all or a portion of the records contained in this system of records may be disclosed outside USAID as a routine use pursuant to 5 U.S.C. 552a(b)(3) as follows:

(a) To respond to requests from Congress, Congressional Committees, or constituents of Members of Congress for information or services from USAID.

(b) To provide USAID principals with information regarding trends or particular interests of Members of Congress or their constituents.

(c) To any person or entity to the extent necessary to prevent an imminent crime which directly threatens loss of life or serious bodily injury.

(d) To other Federal, State, or local government agencies for appropriate action when the matter complained of or inquired about comes within the jurisdiction of such agency.

(e) To contractors and their agents, grantees, experts, consultants, and others performing or working on a contract, service, grant, cooperative agreement, or other assignment for USAID, when necessary to accomplish an agency function related to this system of records. Individuals provided information under this routine use are subject to the same Privacy Act requirements and limitations on disclosure as are applicable to USAID officers and employees.

(f) To Medical or Emergency Response Personnel to the extent necessary to meet a bona fide medical emergency.

(g) To a court, magistrate, or other administrative body in the course of presenting evidence, including disclosures to counsel or witnesses in the course of civil discovery, litigation, or settlement negotiations or in connection with criminal or administrative proceedings, when the USAID is a party to the proceeding or has a significant interest in the proceeding, to the extent that the information is determined to be relevant and necessary.

(h) To appropriate agencies, entities, and persons when: (1) USAID suspects or has confirmed that there has been a breach of the system of records; (2) USAID has determined that as a result of the suspected or confirmed breach, there is a risk of harm to individuals (including its information systems, programs, and operations), the Federal Government, or national security; and (3) the disclosure made to such agencies, entities, and persons is reasonably necessary to assist in connection with USAID's efforts to respond to the suspected or confirmed breach or to prevent, minimize, or remedy such harm.

(i) To another federal agency or federal entity, when USAID determines that the information from the system of records is reasonably necessary to assist the recipient agency or entity in (1) responding to a suspected or confirmed breach, or (2) preventing, minimizing, or remedying the risk of harm to individuals, the recipient agency or entity (including its information systems, programs, and operations), the Federal Government, or national security, that might result from a suspected or confirmed breach.

(j) To the National Archives and Records Administration (NARA), for the purposes of records-management inspections conducted under the authority of Sections 2904 and 2906 of Title 44 of the U.S.C. and in its role as Archivist.

POLICIES AND PRACTICES FOR STORAGE OF RECORDS:

USAID stores records in this system in electronic format and paper format. Records in paper format are stored in file folders in locked cabinets. Records in electronic format are kept in a user-authenticated and password-protected computerized database system.

POLICIES AND PRACTICES FOR RETRIEVAL OF RECORDS:

USAID indexes and retrieves records by the name of the Congressional member, Congressional staff, or the constituent subject to the inquiry or by an identifying case number that is cross-indexed to the Congressional member or committee.

POLICIES AND PRACTICES FOR RETENTION AND DISPOSAL OF RECORDS:

USAID follows NARA-approved records retention schedule. Records that have met required retention periods will be disposed of in accordance with NARA guidelines and USAID policy and procedures. Paper records are shredded, and records maintained on internal electronic information systems are electronically removed. USAID electronic storage media that is no longer in service is purged in accordance with National Institute of Standards and Technology guidelines for media sanitization (NIST SP 800-88).

ADMINISTRATIVE, TECHNICAL, AND PHYSICAL SAFEGUARDS:

Access to the records is limited to persons whose official duties require access, such as individuals who prepare responses to Congressional inquiries. Paper records in this system are maintained in a building with restricted public access, patrolled by guards. Both standard and electronic locks may be used to restrict access. Access to USAID buildings where records are located is restricted by 24-hour electronic identification.

For Paper Records: USAID secures records in lockable metal filing cabinets within a locked room when not in use. Access to these records is strictly limited to authorized USAID personnel.

For Electronic Records: USAID personnel store and password-protect electronic records in a user-authenticated, USAID-issued computer and/or a USAID-approved, computerized database system. These records are maintained separately from other systems of records. Access to these electronic records is strictly limited to authorized USAID personnel.

USAID contractors are also required to maintain all USAID records with similar safeguards to ensure the security and confidentiality of records and to protect against any anticipated threats or hazards to their security or integrity which could result in substantial harm, embarrassment, inconvenience, or unfairness to any individual on whom information is maintained. All persons having access to these records shall be trained in the proper handling of records covered by the Privacy Act.

RECORD ACCESS PROCEDURES:

Under the Privacy Act, individuals may request access to records about themselves. These individuals must be limited to citizens of the United States or aliens lawfully admitted for permanent residence. If a Federal Department or Agency or a person who is not the individual who is the subject of the records, requests access to records about an individual, the written consent of the individual who is the subject of the records is required.

Individuals seeking access to information about themselves contained in this system of records should address inquiries to the Bureau for Management, Office of Management Services, Information and Records Division (M/MS/IRD), USAID Annex—Room 2.4.0C, 1300 Pennsylvania Avenue NW, Washington, DC 20523. The requester may complete and sign a USAID Form 507-1, Certification of Identity Form or submit signed, written requests that should include the individual's full name, current address, telephone number and this System of Records Notice number. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

See section above, Record Access Procedures. Individuals may also contact the appropriate Congressional Correspondence System of Records Manager at ecarr@usaid.gov to: (i) Request access, contest, or amend a notification of records; and (ii) to determine the location of particular records created by contractors on behalf of USAID or maintained by contractors at the contractor's location.

NOTIFICATION PROCEDURES:

See section above, Record Access Procedures.

EXEMPTIONS PROMULGATED FOR THE SYSTEM:

None.

HISTORY:

42 FR 47384.

Celida Ann Malone,
Government Privacy Task Lead.

[FR Doc. 2022-10088 Filed 5-10-22; 8:45 am]

BILLING CODE 6116-01-P